DEPARTMENT OF JUSTICE

Antitrust Division

Notice Pursuant to the National Cooperative Research and Production Act of 1993—Advanced Energy Consortium

Notice is hereby given that, on March 30, 2007, pursuant to Section 6(a) of the National Cooperative Research and Production Act of 1993, 15 U.S.C. 4301 et seq. (“the Act”), Advanced Energy Consortium (“AEC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identifies of the parties to the venture are: The University of Texas at Austin, Austin, TX; BP America Inc., Houston, TX; ConocoPhillips Company, Houston, TX; Marathon Oil Company, Houston, TX; Occidental Oil & Gas Corporation, Houston, TX; Shell International E & P Inc., Houston, TX; Schlumberger Technology Corporation, Sugar Land, TX; and Halliburton Energy Services, Inc., Houston, TX. The AEC wa formed by a written agreement effective as of January 1, 2007, to engage in research concerning subsurface microsensors, nanosensors and nonomaterials to benefit the exploration and production function of the petroleum industry. The AEC will not engage in production or sales activities. Participation in the venture is open to other companies (subject to the numerical limit on participants as set from time to time by the Board of Management of the venture) who meet the qualifications and receive the approvals specified in the written agreement.

Patricia A. Brink,
Deputy Director of Operations, Antitrust Division.

[FR Doc. 07-2854 Filed 6-7-07; 8:45 am]

BILLING CODE 4410-11-M